DEPARTMENT OF HEALTH AND HUMAN SERVICES

National Institutes of Health

National Institute of Mental Health; Amended Notice of Meeting

Notice is hereby given of a change in the meeting of the National Institute of Mental Health Special Emphasis Panel, July 12, 2002, 9:30 a.m. to July 12, 2002, 4 p.m., St. Gregory Hotel, 2033 M Street, NW., Washington, DC, 20036-3305 which was published in the Federal Register on June 26 2002, 67 FR 43134-35.

The meeting will be held on July 12, 2002, from 9:30 a.m. to 4 p.m., at the Embassy Suites at the Chevy Chase Pavillion, 4300 Military Road, NW, Washington, DC. The meeting is closed to the public.

Dated: July 12, 2002.
LaVerne Y. Stringfield,
Director, Office of Federal Advisory Committee Policy.

[FR Doc. 02-18133 Filed 7-17-02; 8:45 am]

BILLING CODE 4140-01-M